DEPARTMENT OF HOMELAND SECURITY

Federal Emergency Management Agency

[Docket ID: FEMA-2012-0010; OMB No. 1660-0062]

Agency Information Collection Activities: Proposed Collection; Comment Request, State/Local/Tribal Hazard Mitigation Plans

AGENCY: Federal Emergency Management Agency, DHS.

ACTION: Notice.

SUMMARY: The Federal Emergency Management Agency, as part of its continuing effort to reduce paperwork and respondent burden, invites the general public and other Federal agencies to take this opportunity to comment on a proposed revision of a currently approved information collection. In accordance with the Paperwork Reduction Act of 1995, this notice seeks comments concerning State, Local and Tribal mitigation plan requirements. While there has been no change to the information being collected, this proposed adjustment is due to a change in methodology used to estimate burden.

DATES: Comments must be submitted on or before April 24, 2012.

ADDRESSES: To avoid duplicate submissions to the docket, please use only one of the following means to submit comments:

(1) Online. Submit comments at www.regulations.gov under Docket ID FEMA-2012-0010. Follow the instructions for submitting comments.

(2) Mail. Submit written comments to Regulatory Affairs Division, Office of Chief Counsel, DHS/FEMA, 500 C Street, SW., Room 835, Washington, DC 20472-3100.

(3) Facsimile. Submit comments to (703) 483-2999.

(4) Email. Submit comments to FEMA-POLICY@dhs.gov. Include Docket ID FEMA-2012-0010 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Frederick Sharrocks, Branch Chief, Assessment and Planning Branch, Risk Analysis Division, Federal Insurance and Mitigation Administration, FEMA, (202) 646-2796 for additional information. You may contact the Records Management Division for copies of the proposed collection of information at facsimile number (202) 646-3347 or email address: FEMA-Information-Collections-Management@dhs.gov.

SUPPLEMENTARY INFORMATION: Section 322 of the Robert T. Stafford Disaster Relief and Emergency Assistance Act (Stafford Act), 42 U.S.C. 5165, as amended by the Disaster Mitigation Act of 2000 (DMA 2000), Public Law 106-390, provides new and revitalized approaches to mitigation planning. The Stafford Act provides a framework for linking pre-and post-disaster mitigation planning and initiatives with public and private interests to ensure an integrated, comprehensive approach to disaster loss reduction. Title 44 CFR part 201 provides the mitigation planning requirements for State, local and Indian Tribal governments to identify the natural hazards that impact them, to identify actions and activities to reduce any losses from hazards, and to establish a coordinated process to implement the plan, taking advantage of a wide-range of resources.

Collection of Information

Title: State/Local/Tribal Hazard Mitigation Plans.

Type of Information Collection: Revision of a currently approved information collection.

OMB Number: OMB No. 1660-0062.

Form Titles and Numbers: None.

Abstract: The purpose of State, Local and Tribal Hazard Mitigation Plan requirements is to support the administration of the Federal Emergency Management Agency Mitigation grant programs, and contemplate a significant State, Local and Tribal commitment to mitigation activities, comprehensive mitigation planning, and strong program management. Implementation of plans, pre-identified cost-effective mitigation measures will streamline the disaster recovery process. Mitigation plans are the demonstration of the goals, priorities to reduce risks from natural hazards.

Affected Public: State, local, or Tribal Government.

Estimated Total Annual Burden Hours: 781,152 hours.

Estimated Annualized Burden Hours and Costs
Type of respondent | Form name/ form number | No. of respondents | No. of responses per respondent | Total No. of responses | Avg. burden per response (in hours) | Total annual burden (in hours) | Avg. hourly wage rate | Total annual respondent cost
Local or Tribal Government | New Plan (Local and Tribal) | 56 | 5 | 280 | 2,080 | 582,400 | $44.44 | $25,881,856
Local or Tribal Government | Plan Updates (Local and Tribal) | 56 | 9 | 504 | 320 | 161,280 | 44.44 | 7,167,283
State Government | State Reviews of Local and Tribal plans | 56 | 14 | 784 | 8 | 6,272 | 44.44 | 278,728
State Government | Standard State Plan Updates | 16 | 1 | 16 | 1,560 | 24,960 | 44.44 | 1,109,222
State Government | Enhanced State Plan Updates | 3 | 1 | 3 | 2,080 | 6,240 | 44.44 | 277,306
Total |  | 56 |  | 1,587 |  | 781,152 |  | 34,714,395
Note: Contract support from the private sector in developing, updating, and reviewing the plans is not captured in this table.
Note: The “Avg. Hourly Wage Rate” for each respondent includes a 1.4 multiplier to reflect a fully-loaded wage rate.
Note: This table assumes that no grant dollars are paying for the Mitigation Plans. Mitigation Plans may be paid for using FEMA mitigation grant programs, which usually has a 75 percent Federal cost share.
Note: The No. of Responses per Respondent is based on estimates, which are rounded to whole plans.
Note: The No. of Respondents is based on the number of governments preparing State-level mitigation plans and is inclusive of States, U.S. Territories, and the District of Columbia.

Estimated Cost: The estimated annual cost to respondents for the hour burden is $34,714,395. There are no operations and maintenance costs for technical services. There are no annual start-up or capital costs. The estimated annual cost to the Federal Government is $1,506,562.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: February 14, 2012.
John G. Jenkins, Jr.,
Acting Director, Records Management Division, Mission Support Bureau, Federal Emergency Management Agency, Department of Homeland Security.

[FR Doc. 2012-4268 Filed 2-23-12; 8:45 am]

BILLING CODE 9110-12-P